DEPARTMENT OF ENERGY

Federal Energy Regulatory Commission

[Project No. 7141-002]

Mill Shoals Hydro Company, Inc.; Mill Shoals Hydro Company, LLC; Notice of Transfer of Exemption

1. By letter filed April 24, 2015,¹ William B. Conway, Jr., Counsel for Enel Green Power North America, Inc. (EGPNA),² informed the Commission that the exemption from licensing for the Milstead Dam Project, FERC No. 7141, originally issued April 15, 1983,³ has been transferred to Mill Shoals Hydro Company, LLC, an affiliate of Enel Green Power. The project is located on the Yellow River in Rockdale County, Georgia. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 23 FERC ¶ 62,045, Notice of Exemption From Licensing (1983).

2. Mill Shoals Hydro Company, LLC is now the exemptee of the Milstead Dam Project, FERC No. 7141. All correspondence should be forwarded to: Mill Shoals Hydro Company, LLC, c/o Enel Green Power North America, Inc., Attn: General Counsel, 1 Tech Drive, Suite 220, Andover, MA 01810.

Dated: May 19, 2015.
Kimberly D. Bose,
Secretary.

[FR Doc. 2015-12609 Filed 5-22-15; 8:45 am]

BILLING CODE 6717-01P